DEPARTMENT OF HEALTH AND HUMAN SERVICES

Substance Abuse and Mental Health Services Administration (SAMHSA)

Agency Information Collection Activities: Proposed Collection; Comment Request

In compliance with section 3506(c)(2)(A) of the Paperwork Reduction Act of 1995 concerning opportunity for public comment on proposed collections of information, SAMHSA will publish periodic summaries of proposed projects. To request more information on the proposed projects or to obtain a copy of the information collection plans, call the SAMHSA Reports Clearance Officer at (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including leveraging automated data collection techniques or other forms of information technology.

Proposed Project: Revision to the Community Mental Health Services Block Grant and Substance Use Prevention, Treatment, and Recovery Services Block Grant FY 2026-2027 Plan and Report Guide (OMB No. 0930-0168)

SAMHSA is requesting approval from the Office of Management and Budget (OMB) for a revision of the 2026-2027 Community Mental Health Services Block Grant (MHBG) and Substance Use Prevention, Treatment, and Recovery Services Block Grant (SUPTRS) Application Plan and Report Guide.

Currently, the SUPTRS BG and the MHBG differ on a number of their practices (e.g., data collection at individual or aggregate levels) and statutory authorities (e.g., method of calculating MOE, stakeholder input requirements for planning, set asides for specific populations or programs, etc.). Historically, the Centers within SAMHSA that administer these block grants have had different approaches to application requirements and reporting. To compound this variation, states have different structures for accepting, planning, and accounting for the block grants and the prevention set aside within the SUPTRS BG. As a result, how these dollars are spent and what is known about the services and clients that receive these funds varies by block grant and by State.

SAMHSA has conveyed that block grant funds must be directed toward four purposes: (1) to fund priority treatment and support services for individuals without insurance or who cycle in and out of health insurance coverage; (2) to fund those priority treatment and support services not covered by Medicaid, Medicare, or private insurance offered through the exchanges and that demonstrate success in improving outcomes and/or supporting recovery; (3) to fund universal, selective and indicated prevention activities and services that align with SAMHSA's six prevention strategies; and (4) to collect performance and outcome data to determine the ongoing effectiveness of behavioral health prevention, treatment and recovery support services and to plan the implementation of new services on a nationwide basis.

States will need help to meet future challenges associated with the implementation and management of an integrated physical health, mental health, and addiction service system. SAMHSA has established standards and expectations that will lead to an improved system of care for individuals with or at risk of mental and substance use disorders. Therefore, this application package continues to fully exercise SAMHSA's existing authority regarding states, U.S. territories, freely associated states, and the Red Lake Band of Chippewa Indians' (subsequently referred to as “states”) use of block grant funds as they fully integrate behavioral health services into the broader health care continuum.

Consistent with previous applications, the FY 2026-2027 application has required sections and other sections where additional information is requested. The FY 2026-2027 application requires states to submit a face sheet, a table of contents, a behavioral health assessment and plan, reports of expenditures and persons served, an executive summary, and funding agreements and certifications. In addition, SAMHSA is requesting information on key areas that are critical to the states' success in addressing health care equity. Therefore, as part of this block grant planning process, states should identify promising or effective strategies as well as technical assistance needed to implement the strategies identified in their plans for FYs 2026 and 2027.

SAMHSA has made changes to the Block Grant Plan and Report requirements for FFY 2026 and 2027. These changes are necessary to ensure that funds are spent in an appropriate and timely manner. Adjustments were made to pre-existing tables in the plan and report.

Proposed revisions for substance use disorder treatment services in the FY 26-27 SUPTRS BG Plan and Report include revisions related to removal of stigmatizing language, with the deletion of the term 'abuse', and replacement with the term `use', per the Consolidated Appropriations Act, 2023. The Plan and Report also include the universal adoption of 'Recovery Support Services' as a stand-alone category for SUPTRS BG Plan and Report tables. These changes affect Plan Tables 1, 2b, 4b, and 6b, and Report Tables 1, 2, 4, 6, 7.

Editorial and minor stylistic changes have been made to tables and language. Footnotes have been revised that define the COVID-19 and ARP Supplemental Funding expenditure periods, including the addition of explicit instructions on the second No Cost Extension (NCE) for the COVID-19 funding, and the expiration date for the ARP funding. Finally, the SUPTRS BG Report Table 11c has been revised to reflect the Number of Persons Admitted to Treatment by Sexual Orientation and Race/Ethnicity, in a reporting format that is compatible with the format and content of the comparable CMHS table for the MHBG.

Proposed revisions for prevention services in the FY 26-27 SUPTRS BG Plan include those revisions that are related to a more intentional use of language, with strengthened statements with the addition of statistics, and added language to reinforce the interrelatedness between mental health and substance use. There is also reinforcement of SUPTRS BG primary prevention set-aside funds to support universal, selective, and/or indicated substance use prevention strategies.

Updated tables ensure consistency in Tables 5a-5c for both Plans and Reports, and updated language for substances in Table 5c. The term `abstinence' has been removed from the Prevention National Outcome Measures (NOMs) to better reflect current terminology. Report Tables 31 and 32 have been combined into a new Report Table 31, which reduces burden for grantees and removes redundant, obsolete reporting requirements. Gender categories in Table 31 have been updated to align with CSAT gender categories.

On the MHBG portion of the Plan, the changes are the addition of one planning table—MHBG Plan Table 4a: State Agency Planned Budget for MHBG and the addition of a new section to the Environmental Factors and Plan section—Uniform Reporting System and Mental Client-Level Data (MH-CLD)/Mental Health Treatment Episode Data Set (MH-TEDS). Minor revisions were made for clarification to other sections.

On the MHBG report, the only changes are the addition of one new table (Table 4B) and the addition of data definitions in the appendix. The additional tables should not require excessive effort as all data will already be collected by the states for the additional funding efforts.

While the statutory deadlines and block grant award periods remain unchanged, SAMHSA encourages states to turn in their application as early as possible to allow for a full discussion and review by SAMHSA. Applications for the MHBG-only are due no later than September 1, 2025. The application for SUPTRS BG-only is due no later than October 1, 2025. A single application for MHBG and SUPTRS BG combined is due no later than September 1, 2025.

Estimates of Annualized Hour Burden

The estimated annualized burden for the uniform application will remain 33,493 hours since most revisions have been made for clarification and the combining of tables will not change the burden. Burden estimates are broken out in the following tables showing burden separately for Year 1 and Year 2. Year 1 includes the estimates of burden for the uniform application and annual reporting. Year 2 includes the estimates of burden for the recordkeeping and annual reporting. The reporting burden remains constant for both years.

Table 1—Estimates of Application and Reporting Burden for Year 1
| Authorizing legislation SUPTRS BG | Authorizing legislation MHBG | Implementing regulation | Number of respondents | Number of responses per year | Number of hours per response | Total hours
Substance Use Prevention, Treatment, and Recovery Services (SUPTRS BG) and Community Mental Health Services (MHBG) Block Grant
Reporting: | Standard Form and Content |  |  |  |  |  |
| 42 U.S.C. 300x-32(a) |  |  |  |  |  |
SUPTRS BG | Annual Report |  |  |  |  |  | 11,190
| 42 U.S.C. 300x-52(a) |  | 45 CFR 96.122(f) | 60 | 1 |  |
| 42 U.S.C. 300x-30-b |  |  | 5 | 1 |  |
| 42 U.S.C. 300x-30(d)(2) |  | 45 CFR 96.134(d) | 60 | 1 |  |
MHBG | Annual Report |  |  |  |  |  | 11,003
|  | 42 USC § 300x-6(a) |  | 59 | 1 |  |
|  | 42 U.S.C. 300x-52(a) |  |  |  |  |
|  | 42 U.S.C. 300x-4(b)(3)B |  | 59 | 1 |  |
| State Plan (Covers 2 years) |  |  |  |  |  |
SUPTRS BG elements | 42 U.S.C. 300x-22(b) |  | 45 CFR 96.124(c)(1) | 60 | 1 |  |
| 42 U.S.C. 300x-23 |  | 45 CFR 96.126(f) | 60 | 1 |  |
| 42 U.S.C. 300x-27 |  | 45 CFR 96.131(f) | 60 | 1 |  |
| 42 U.S.C. 300x-32(b) |  | 45 CFR 96.122(g) | 60 | 1 | 120 | 7,230
MHBG elements |  | 42 U.S.C. 300x-1(b) |  | 59 | 1 | 120 | 7,109
|  | 42 U.S.C. 300x-1(b)(2) |  | 59 | 1 |  |
|  | 42 U.S.C. 300x-2(a) |  | 59 | 1 |  |
| Waivers |  |  |  |  |  | 3,240
| 42 U.S.C. 300x-24(b)(5)(B) |  |  | 20 | 1 |  |
| 42 U.S.C. 300x-28(d) |  | 45 CFR 96.132(d) | 5 | 1 |  |
| 42 U.S.C. 300x-30(c) |  | 45 CFR 96.134(b) | 10 | 1 |  |
| 42 U.S.C. 300x-31(c) |  |  | 1 | 1 |  |
| 42 U.S.C. 300x-32(c) |  |  | 7 | 1 |  |
|  | 42 U.S.C. 300x-32(e) |  | 10 |  |  |
|  | 42 U.S.C. 300x-2(a)(2) |  | 10 |  |  |
|  | 42 U.S.C 300x-4(b)(3) |  | 10 |  |  |
|  | 42 U.S.C 300x-6(b) |  | 7 |  |  |
Recordkeeping | 42 U.S.C. 300x-23 | 42 U.S.C. 300x-3 | 45 CFR 96.126(c) | 60/59 | 1 | 20 | 1,200
| 42 U.S.C. 300x-25 |  | 45 CFR 96.129(a)(13) | 10 | 1 | 20 | 200
| 42 U.S.C 300x-65 |  | 42 CFR Part 54 | 60 | 1 | 20 | 1,200
Combined Burden |  |  |  |  |  |  | 42,373

Report

300x-52(a)—Requirement of Reports and Audits by States—Report

300x-30(b)—Maintenance of Effort (MOE) Regarding State Expenditures—Exclusion of Certain Funds (SUPTRS BG)

300x-30(d)(2)—MOE—Noncompliance—Submission of Information to Secretary (SUPTRS BG)

State Plan—SUPTRS BG

300x-22(b)—Allocations for Women

300x-23—Intravenous Substance Abuse

300x-27—Priority in Admissions to Treatment

300x-29—Statewide Assessment of Need

300x-32(b)—State Plan

State Plan—MHBG

42 U.S.C. 300x-1(b)—Criteria for Plan

42 U.S.C. 300x-1(b)(2)—State Plan for Comprehensive Community Mental Health Services for Certain Individuals—Criteria for Plan—Mental Health System Data and Epidemiology

42 U.S.C. 300x-2(a)—Certain Agreements—Allocations for Systems Integrated Services for Children

Waivers—SUPTRS BG

300x-24(b)(5)(B)—Human Immunodeficiency Virus—Requirement regarding Rural Areas

300x-28(d)—Additional Agreements

300x-30(c)—MOE

300x-31(c)—Restrictions on Expenditure of Grant—Waiver Regarding Construction of Facilities

300x-32(c)—Certain Territories

300x-32(e)—Waiver amendment for 1922, 1923, 1924 and 1927

Waivers—MHBG

300x-2(a)(2)—Allocations for Systems Integrated Services for Children

300x-6(b)—Waiver for Certain Territories

Recordkeeping

300x-23—Waiting list

300x-25—Group Homes for Persons in Recovery from Substance Use Disorders

300x-65—Charitable Choice

Table 2—Estimates of Application and Reporting Burden for Year 2
| Number of respondent | Number of responses per year | Number of hours per response | Total hours
Reporting:
SUPTRS BG | 60 | 1 | 187 | 11,220
MHBG | 59 | 1 | 187 | 11,033
Recordkeeping | 60/59 | 1 | 40 | 2,360
Combined Burden |  |  |  | 24,613

The total annualized burden for the application and reporting is 33,493 hours (42,373 + 24,613 = 66,986/2 years = 33,493).

Link for the application: http://www.samhsa.gov/grants/block-grants.

Send comments to SAMHSA Reports Clearance Officer, 5600 Fisher Lane, Room 15E45, Rockville, MD 20852 OR email him a copy at samhsapra@samhsa.hhs.gov. Written comments should be received by October 15, 2024.

Alicia Broadus,
Public Health Advisor.

[FR Doc. 2024-18192 Filed 8-14-24; 8:45 am]

BILLING CODE 4162-20-P